FEDERAL DEPOSIT INSURANCE CORPORATION

12 CFR Part 327

RIN 3064-AD07

Dividends; Correction

AGENCY: Federal Deposit Insurance Corporation (FDIC).

ACTION: Notice of proposed rulemaking; correction.

SUMMARY: This document corrects the preamble to the proposed rule published in the Federal Register of May 18, 2006, regarding Dividends. Specifically, this document corrects the Agency Web site for submitting comments on this proposed rule.

FOR FURTHER INFORMATION CONTACT: Munsell W. St. Clair, Senior Policy Analyst, Division of Insurance and Research, (202) 898-8967; Donna M. Saulnier, Senior Assessment Policy Specialist, Division of Finance, (703) 562-6167; and Kymberly K. Copa, Counsel, Legal Division, (202) 898-8832.

Correction

In the proposed rule FR Doc. E6-7585, beginning on page 28804 in the issue of May 18, 2006, make the following correction to the Agency Web site in the ADDRESSES section:

“You may submit comments, identified by RIN number by any of the following methods:

• Agency Web site: http://www.fdic.gov/regulations/laws/federal/propose.html. Follow instructions for submitting comments on the Agency Web site.”

Please note that the Agency Web site contains a slash (“/”) mark between the words “federal” and “propose.html.”

Dated: May 18, 2006.
Carol L. Middlebrook,
Special Assistant to the Executive Secretary.

[FR Doc. E6-7998 Filed 5-24-06; 8:45 am]

BILLING CODE 6714-01-P